DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Madrid Protocol.

Form Number(s): PTO-2131, PTO, 2132 and PTO-2133.

Agency Approval Number: 0651-XXXX.

Type of Request: New collection.

Burden: 4,552 hours annually.

Number of Respondents: 22,630 responses per year.

Avg. Hours Per Response: The USPTO estimates that it will take the public approximately 15 minutes (0.25 hours) to complete the international trademark application; 3 minutes (0.05 hours) for the subsequent designations; 10 minutes (0.17 hours) for the response to notice of irregularities by the International Bureau (IB) of the World Intellectual Property Organization (WIPO) in connection with international applications; 2 minutes (0.03 hours) for the request that the USPTO replace a U.S. registration with a subsequently registered extension of protection to the United States; 5 minutes (0.08 hours) for the request to record an assignment of restriction of a holder's right to dispose of an international registration, and a request that the USPTO transform a cancelled extension of protection into an application for registration under section 1 or 44 of the Act, depending upon the nature of the particular information being provided. This includes time to gather the necessary information, create the documents, and submit the completed request. Regarding the affidavit of continued use or excusable nonuse under section 71 of the Act, the public won't be able/required to submit this until five years from the date the statute takes effect, at the earliest; hence, no projections are being calculated at this time.

Needs and Uses: The information in this collection is a matter of public record, and is used by the public for a variety business purposes related to establishing and enforcing international trademark rights.

Affected Public: Individuals or households; business or other for-profit; not-for-profit institutions; farms; the federal Government; and state, local or tribal Government.

Frequency: On occasion.

Respondent's Obligation: Required to obtain or retain benefits.

OMB Desk Officer: David Rostker, (202) 395-3897.

Copies of the above information collection proposal can be obtained by contacting Susan K. Brown, Records Officer, Office of Data Architecture and Services, Data Administration Division, USPTO, Washington, DC 20231, by phone at 703-308-7400, or by e-mail to susan.brown@uspto.gov.

Written comments and recommendations for the proposed information collection should be sent on or before April 25, 2003 to David Rostker, OMB Desk Officer, Room 10202, New Executive Office Building, Washington, D.C. 20503.

Dated: March 18, 2003.
Susan K. Brown,
Records Officer, USPTO, Office of Data Architecture and Services, Data Administration Division.

[FR Doc. 03-7248 Filed 3-25-03; 8:45 am]

BILLING CODE 3510-16-P